DEPARTMENT OF ENERGY

Federal Energy Regulatory Commission

Combined Notice of Filings #1

Take notice that the Commission received the following electric rate filings:

Docket Numbers: ER10-3079-014.

Applicants: Tyr Energy, LLC.

Description: Updated Market Power Analysis for the Southeast Region of Tyr Energy, LLC.

Filed Date: 12/12/17.

Accession Number: 20171212-5172.

Comments Due: 5 p.m. ET 2/12/18.

Docket Numbers: ER17-1160-002.

Applicants: Entergy Arkansas, Inc.

Description: Compliance filing: EAI MSS-4 Amended PPAs to be effective5/9/2017.

Filed Date: 12/13/17.

Accession Number: 20171213-5095.

Comments Due: 5 p.m. ET 1/3/18.

Docket Numbers: ER18-433-000.

Applicants: La Paloma Generating Company, LLC.

Description: Tariff Cancellation: Notice of Cancellation of MBR Tariff to be effective 12/13/2017.

Filed Date: 12/12/17.

Accession Number: 20171212-5165.

Comments Due: 5 p.m. ET 1/2/18.

Docket Numbers: ER18-434-000.

Applicants: Chandler Wind Partners, LLC.

Description: Tariff Cancellation: Notice of Cancellation to be effective 12/31/2017.

Filed Date: 12/13/17.

Accession Number: 20171213-5060.

Comments Due: 5 p.m. ET 1/3/18.

Docket Numbers: ER18-435-000.

Applicants: Anbaric Development Partners, LLC.

Description: Application for Authority to Sell Transmission Rights at Negotiated Rates of Anbaric Development Partners, LLC.

Filed Date: 12/13/17.

Accession Number: 20171213-5110.

Comments Due: 5 p.m. ET 1/3/18.

Docket Numbers: ER18-436-000.

Applicants: Georgia-Pacific Consumer Products LP, Muskogee.

Description: § 205(d) Rate Filing: Notices of succession update to be effective 12/16/2017.

Filed Date: 12/13/17.

Accession Number: 20171213-5153.

Comments Due: 5 p.m. ET 1/3/18.

Docket Numbers: ER18-437-000.

Applicants: Georgia-Pacific Consumer Products LP, Naheola.

Description: § 205(d) Rate Filing: Notices of succession update to be effective 12/16/2017.

Filed Date: 12/13/17.

Accession Number: 20171213-5154.

Comments Due: 5 p.m. ET 1/3/18.

Docket Numbers: ER18-438-000.

Applicants: Georgia-Pacific Consumer Products LP, Green Bay West.

Description: § 205(d) Rate Filing: Notices of succession to be effective 12/16/2017.

Filed Date: 12/13/17.

Accession Number: 20171213-5162.

Comments Due: 5 p.m. ET 1/3/18.

Docket Numbers: ER18-439-000.

Applicants: Georgia-Pacific Consumer Products LP Savannah.

Description: § 205(d) Rate Filing: Notices of succession update to be effective 12/16/2017.

Filed Date: 12/13/17.

Accession Number: 20171213-5163.

Comments Due: 5 p.m. ET 1/3/18.

Take notice that the Commission received the following qualifying facility filings:

Docket Numbers: QF17-1530-000.

Applicants: DOM Solar Lessor I, LP.

Description: Refund Report of DOM Solar Lessor I, LP [CMEEC—Norwich].

Filed Date: 12/13/17.

Accession Number: 20171213-5129.

Comments Due: 5 p.m. ET 01/3/18.

Docket Numbers: QF18-266-000.

Applicants: Chompie Solar I, LLC.

Description: Refund Report of Chompie Solar I, LLC.

Filed Date: 12/13/17.

Accession Number: 20171213-5128.

Comments Due: 5 p.m. ET 01/3/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 13, 2017.
Nathaniel J. Davis, Sr.,
Deputy Secretary.

[FR Doc. 2017-27360 Filed 12-19-17; 8:45 am]

BILLING CODE 6717-01-P